DEPARTMENT OF THE INTERIOR

Bureau of Ocean Energy Management

[Docket No. BOEM-2014-0077]

Extension of Comment Period on the Environmental Assessment for Virginia Offshore Wind Technology Advancement Project on the Atlantic Outer Continental Shelf Offshore Virginia

AGENCY: Bureau of Ocean Energy Management (BOEM), Interior.

ACTION: Extension of comment period.

SUMMARY: BOEM is extending the comment period on an Environmental Assessment (EA) that considers the reasonably foreseeable environmental consequences associated with approval of wind energy-related research activities offshore Virginia as proposed by the Virginia Department of Mines, Minerals and Energy (DMME). BOEM is seeking public input on the EA, including comments on the completeness and adequacy of the environmental analysis. BOEM will consider public comments on the EA in determining whether to issue a Finding of No Significant Impact (FONSI), or conduct additional analysis under the National Environmental Policy Act.

DATES: Comments on the EA will now be accepted until January 16, 2015.

FOR FURTHER INFORMATION CONTACT: Michelle Morin, BOEM Office of Renewable Energy Programs, 381 Elden Street, HM 1328, Herndon, Virginia 20170, (703) 787-1340 or Michelle.Morin@boem.gov.

SUPPLEMENTARY INFORMATION: Please refer to the notice published in the Federal Register (79 FR 71446) on December 2, 2014, for further information. The notice and the EA can be found at: http://www.boem.gov/VOWTAP/.

Comments: You may submit your comments by one of two methods:

1. Electronically: http://www.regulations.gov. In the entry entitled, “Enter Keyword or ID,” enter BOEM-2014-0077, and then click “search.” Follow the instructions to submit public comments and view supporting and related materials for this notice.

2. In written form, delivered by hand or by mail, enclosed in an envelope labeled “Approval of the Virginia Offshore Wind Technology Advancement Project on the Atlantic Outer Continental Shelf (OCS) Offshore Virginia” to: Program Manager, Office of Renewable Energy, Bureau of Ocean Energy Management, 381 Elden Street, HM 1328, Herndon, Virginia 20170-4817. Comments must be received or postmarked no later than January 16, 2015. All written comments received or postmarked during the comment period will be made available to the public. Comments already submitted in response to the December 2, 2014, notice do not need to be resubmitted.

Authority: This notice is published pursuant to 43 CFR 46.305.

Dated: December 22, 2014.
Walter D. Cruickshank,
Acting Director, Bureau of Ocean Energy Management.

[FR Doc. 2014-30767 Filed 12-31-14; 8:45 am]

BILLING CODE 4310-MR-P